INTERNATIONAL TRADE COMMISSION

[Investigation No. 337-TA-1272]

Certain Integrated Circuits and Products Containing Same; Institution of Investigation

AGENCY: International Trade Commission.

ACTION: Notice.

SUMMARY: Notice is hereby given that a complaint was filed with the U.S. International Trade Commission on June 21, 2021, under section 337 of the Tariff Act of 1930, as amended, on behalf of MediaTek Inc. of Taiwan and MediaTek USA Inc. of San Jose, California. Supplements to the complaint were filed on July 9, 2021. The complaint alleges violations of section 337 based upon the importation into the United States, the sale for importation, and the sale within the United States after importation of certain integrated circuits and products containing same by reason of infringement of certain claims of U.S. Patent No. 8,772,928 (“the '928 patent”); U.S. Patent No. 7,231,474 (“the '474 patent”); U.S. Patent No. 10,264,580 (“the '580 patent”); U.S. Patent No. 10,616,017 (“the '017 patent”); and U.S. Patent No. 10,200,228 (“the '228 patent”). The complaint further alleges that an industry in the United States exists as required by the applicable Federal Statute. The complainants request that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia Proctor, Office of Unfair Import Investigations, U.S. International Trade Commission, telephone (202) 205-2560.

SUPPLEMENTARY INFORMATION: Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on July 21, 2021, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1-16 of the '928 patent; claims 1, 3, 4, 7-10, 14-16, 19, and 20 of the '474 patent; claims 13, 19-22, and 24 of the '580 patent; claims 5-7 and 13-17 of the '017 patent; and claims 11-20 of the '228 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “NXP integrated circuits and evaluation boards; and modules, control units, navigation systems, and infotainment systems that contain NXP integrated circuits;”

(3) Pursuant to Commission Rule 210.50(b)(l), 19 CFR 210.50(b)(1), the presiding administrative law judge shall take evidence or other information and hear arguments from the parties or other interested persons with respect to the public interest in this investigation, as appropriate, and provide the Commission with findings of fact and a recommended determination on this issue, which shall be limited to the statutory public interest factors set forth in 19 U.S.C. l337(d)(l), (f)(1), (g)(1);

(4) For the purpose of the investigation so instituted, the following are hereby named as parties upon which this notice of investigation shall be served:

(a) The complainants are:

MediaTek Inc., No. 1, Dusing Road 1, Hsinchu Science Park, Hsinchu City 30078, Taiwan

MediaTek USA Inc., 2840 Junction Avenue, San Jose, California 95134

(b) The respondents are the following entities alleged to be in violation of section 337, and are the parties upon which the complaint is to be served:

NXP Semiconductors N.V., High Tech Campus 60, 5656 AG Eindhoven, Netherlands

NXP USA, Inc., 6501 W. William Cannon Dr., Austin, TX 78735

Avnet, Inc., 2211 South 47th Street, Phoenix, AZ 85034

Arrow Electronics, Inc., 9201 East Dry Creek Road, Centennial, CO 80112

Mouser Electronics, Inc., 1000 North Main Street, Mansfield, TX 76063

Continental AG, Vahrenwalder Strasse 9, 30165 Hanover, Germany

Continental Automotive GmbH, Vahrenwalder Strasse 9, 30165 Hanover, Germany

Continental Automotive Systems, Inc., 1 Continental Drive, Auburn Hills, MI 48326

Robert Bosch GmbH, Robert-Bosch-Platz 1, 70839 Gerlingen-Schillerhöhe, Germany

Robert Bosch LLC, 38000 Hills Tech Drive, Farmington Hills, MI 48331

(c) The Office of Unfair Import Investigations, U.S. International Trade Commission, 500 E Street SW, Suite 401, Washington, DC 20436; and

(5) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: July 21, 2021.
Lisa Barton,
Secretary to the Commission.

[FR Doc. 2021-15906 Filed 7-26-21; 8:45 am]

BILLING CODE 7020-02-P